DEPARTMENT OF HEALTH AND HUMAN SERVICES

Centers for Disease Control and Prevention

Mine Safety and Health Research Advisory Committee, National Institute for Occupational Safety and Health (MSHRAC, NIOSH)

In accordance with section 10(a)(2) of the Federal Advisory Committee Act (Pub. L. 92-463), the Centers for Disease Control and Prevention (CDC) announces the following meeting for the aforementioned committee:

Times and Dates: 9:00 a.m.-2:30 p.m., EDT, May 9, 2017; 8:30 a.m.-12:00 p.m., EDT, May 10, 2017.

Place: National Institute for Occupational Safety and Health, Morgantown, WV Facility, 1095 Willowdale Road, Morgantown, WV 26505. Teleconference is also available. If you wish to attend in person or by phone, please contact Marie Chovanec by email at MChovanec@cdc.gov or by phone at 412-386-5302 at least 5 business days in advance of the meeting.

Status: Open to public, limited only by the space available. The meeting room accommodates approximately 45 people.

Purpose: This committee is charged with providing advice to the Secretary, Department of Health and Human Services; the Director, CDC; and the Director, NIOSH, on priorities in mine safety and health research, including grants and contracts for such research, 30 U.S.C. 812(b)(2), Section 102(b)(2).

Matters for Discussion: The meeting will focus on mining safety and health research projects and outcomes, including dust and ventilation research, work organization and safety culture research, breathing air supply research, an update on partnerships, health exposure/assessment/monitoring team research, miner health program, and hazard recognition project for stone, sand and gravel mines. The meeting will also include updates from the National Personal Protective Technology Laboratory and the Respiratory Health Division.

Agenda items are subject to change as priorities dictate.

Contact Person for More Information: Jeffrey H. Welsh, Designated Federal Officer, MSHRAC, NIOSH, CDC, 626 Cochrans Mill Road, Pittsburgh, PA 15236, telephone 412-386-4040, fax 412-386-6614.

The Director, Management Analysis and Services Office, has been delegated the authority to sign Federal Register notices pertaining to announcements of meetings and other committee management activities for both CDC and the Agency for Toxic Substances and Disease Registry.

Claudette Grant,
Acting Director, Management Analysis and Services Office, Centers for Disease Control and Prevention (CDC).

[FR Doc. 2017-07324 Filed 4-11-17; 8:45 am]

BILLING CODE 4163-18-P